DEPARTMENT OF DEFENSE

GENERAL SERVICES ADMINISTRATION

NATIONAL AERONAUTICS AND SPACE ADMINISTRATION

[OMB Control No. 9000-0145]

Federal Acquisition Regulation; Submission for OMB Review; Use of Data Universal Numbering System (DUNS) as Primary Contractor Identification

AGENCIES: Department of Defense (DOD), General Services Administration (GSA), and National Aeronautics and Space Administration (NASA).

ACTION: Notice of request for public comments regarding an extension to an existing OMB clearance (9000-0145).

SUMMARY: Under the provisions of the Paperwork Reduction Act of 1995 (44 U.S.C. Chapter 35), the Federal Acquisition Regulation (FAR) Secretariat has submitted to the Office of Management and Budget (OMB) a request to review and approve an extension of a currently approved information collection requirement concerning use of data universal numbering system (DUNS) as primary contractor identification. The Data Universal Numbering System (DUNS) number is the nine-digit identification number assigned by Dun and Bradstreet Information Services to an establishment. A request for public comments was published in the Federal Register at 70 FR 75453 on December 20, 2005.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before June 5, 2006.

ADDRESSES: Submit comments regarding this burden estimate or any other aspect of this collection of information, including suggestions for reducing this burden to the General Services Administration, FAR Secretariat (VIR), 1800 F Street, NW, Room 4035, Washington, DC 20405.

FOR FURTHER INFORMATION CONTACT: Mr. Ernest Woodson, Contract Policy Division, GSA, (202) 501-3775.

SUPPLEMENTARY INFORMATION:

A. Purpose

The Government uses the DUNS number to identify contractors in reporting to the Federal Procurement Data System (FPDS). Federal agencies report data on all contracts in excess of $2,500.00 to the Federal Procurement Data System—Next Generation (FPDS-NG) which collects, processes, and disseminates official statistical data on Federal contracting. Contracting officers insert the Federal Acquisition Regulation (FAR) provision 52.204-6, Data Universal Numbering System (DUNS) Number in solicitations they expect will result in generation of an individual contract action report. This provision requires offerors to submit their DUNS number with their offer. If the offeror does not have a DUNS number, the provision provides instructions on obtaining one.

GSA has concluded that OMB should approve the extension of the information collection as it is currently written.

B. Summary and Disposition of Comments

Comments were received from two respondents. These comments were considered in the formation of the conclusion for the information collection to be approved as written.

1. Comment: One respondent was concerned with the DUNS being the primary method of contractor identification by Federal agencies.

Response: The DUNS has been required for Federal acquisition purposes for more than 25 years. In the Government Accountability Office (GAO) report B-160725 published on October 12, 1979, the GAO concluded that the Government was collecting corporate data in a decentralized manner, which was leading to a number of data quality issues, and charges by the vendor community of an excessive administrative burden to conduct business with the Government. GAO also concluded that the Government used the DUNS number as the contractor identification number.

2. Comment: One respondent was concerned that the Government estimate of the public burden is grossly underestimated; indicating that applying for a DUNS Number takes significantly longer that 1.2 minutes.

Response: The original Government estimate is not based on the time it takes a vendor to obtain a DUNS number, but the time it takes an offeror to submit its DUNS with its offer. The Government has estimated the vendor burden to obtain a DUNS number. To obtain a new DUNS number a registrant may call 1-866-705-5711, or visit https://eupdate.dnb.com/requestoptions/government/ccrreg/. Calling the Federal Government 800 number to obtain a DUNS number will take a prepared caller approximately 25 minutes, which includes an average 5 minute wait time to connect with a D&B help desk specialist. The website process will take a prepared registrant approximately 20 minutes from start to finish to obtain a new DUNS number.

3. Comment: One respondent was concerned with the Government relying upon a private sector corporation to uphold a mandatory contracting requirement, indicating that if Dun and Bradstreet (D&B) ceases operation, becomes overburdened, or somehow loses the ability to perform the function, the entire program will fall apart.

Response: D&B has been in business for more than 165 years, and their worldwide database includes over 100 million DUNS numbers and tracks 53 million companies in 200 countries. The Government only uses .4% of D&B‘s databases.

4. Comment: One respondent believed that the CCR registration could be altered to achieve the same level of performance and function of contractor identification by assigning a unique number to each CCR registration instead of dealing with D&B.

Response: In the late 1980’s and early 1990’s, the Government maintained a proprietary database of Contractor Establishment Codes (CEC) numbers. This database attempted to recreate the D&B worldwide database on a much smaller scale. This was a Government-owned contractor-maintained database. The contractor who was awarded the responsibility to maintain the database was D&B. After review of the project in 1994, the Government chose again to use the commercially available DUNS numbers to fulfill its need. The decision was based on several factors, most notably the fact that the DUNS number is broadly used, both domestically and worldwide. Since the E-Government Act of 2002, the Government has chosen several guiding principles. One of them is to use commercial practices wherever feasible. D&B not only produces a unique number, they also have a mature business providing contractor association. The Government uses the information about one contractor and their relationship to other contractors for reports and we have no desire to compete with that line of work. Therefore, the decision to use D&B is still strongly supported by the Administration.

5. Comment: One respondent was concerned that the D&B system is not reliable enough for its intended purpose, because it seems to operate a large call center abroad to manage an enormous volume of calls.

Response: We agree that early on communication issues were experienced when following up with the Federal community through D&B. However, D&B has a dedicated call center supported by 22 full-time employees located in Austin, Texas that handles effectively 200,000 calls annually. Today, when D&B contacts the Federal Community, domestic support is used to ensure clarity of discussion.

6. Comment: One respondent was concerned that the DUNS system creates problems when a contractor owns several smaller partnerships or corporations, in which case more than one DUNS number is required. The respondent believes that such circumstances cause an increased burden on corporations that own other businesses.

Response: It is reasonable for each separate legal entity to have its own separate identity number.

7. Comment: One respondent was concerned that D&B’s decision to discontinue the issuance of DUNS numbers to third parties e.g., Federal agencies) has resulted in many prospective foreign contractors experiencing difficulties in obtaining a DUNS number; and the dilemma Federal agencies face in overseas sole-source situations when the contractor refuses to obtain a DUNS number for personal safety reasons.

Response: We agree with the respondent’s assessment of conditions abroad in remote locations in obtaining the DUNS numbers. As a result, a series of generic DUNS numbers has been developed that may be used under defined conditions to alleviate challenges in obtaining DUNS numbers. The development of the numbers was in preparation of FAR case 2004-038, Federal Procurement Data System, that is expected to be published in the Federal Register late May or June, 2006. The pending FAR case defines how these numbers will be used by the Federal community. Given this solution, we strongly feel that the respondent's challenges should be significantly reduced.

C. Annual Reporting Burden

Respondents: 35,694.

Responses Per Respondent: 4.00.

Annual Responses: 142,776.

Hours Per Response: .0200. (Averaged)

Total Burden Hours: 2,852.

Obtaining Copies of Proposals: Requesters may obtain a copy of the information collection documents from the General Services Administration, FAR Secretariat (VIR), Room 4035, Washington, DC 20405, telephone (202) 501-4755. Please cite OMB Control Number 9000-0145, Use of Data Universal Numbering System (DUNS) as Primary Contractor Identification, in all correspondence.

Dated: April 28, 2006.
Gerald Zaffos,
Director, Contract Policy Division.

[FR Doc. 06-4212 Filed 5-4-06; 8:45 am]

BILLING CODE 6820-EP-S